DEPARTMENT OF COMMERCE

National Oceanic and Atmospheric Administration

RIN: 0648-XC17

Pacific Fishery Management Council; Public Meeting

AGENCY: National Marine Fisheries Service (NMFS), National Oceanic and Atmospheric Administration (NOAA), Commerce.

ACTION: Notice of a public meeting.

SUMMARY: The Pacific Fishery Management Council's (Council) Groundfish Allocation Committee (GAC) will hold a working meeting, which is open to the public.

DATES: The GAC meeting will be held Tuesday, September 25, 2007, from 8:30 a.m. until business for the day is completed. The GAC will reconvene Wednesday, September 26, 2007, and Thursday, September 27 at 8:30 a.m. each day until their business is completed.

ADDRESSES: The GAC meeting will be held at the Pacific Fishery Management Council, Large Conference Room, 7700 NE Ambassador Place, Suite 101, Portland, OR 97220-1384. telephone: (503) 820-2280.

Council address: Pacific Fishery Management Council, 7700 NE Ambassador Place, Suite 101, Portland, OR 97220-1384.

FOR FURTHER INFORMATION CONTACT: Mr. John DeVore, Groundfish Management Coordinator; telephone: (503) 820-2280.

SUPPLEMENTARY INFORMATION: The purpose of the GAC meeting is to consider draft alternatives, preliminary analyses, and other material for rationalizing the Pacific Coast limited entry groundfish trawl industry (trawl rationalization), and for allocating Pacific Coast groundfish stocks and stock complexes to the various Pacific Coast fishery sectors (intersector allocation). Trawl rationalization issues will be discussed by the GAC on Tuesday and Wednesday, September, 25-26; and intersector allocation issues will be discussed on Thursday, September 27. No management actions will be decided by the GAC. The GAC's role will be development of recommendations and refinement of draft alternatives for analysis in two contemplated environmental impact statements. The GAC recommendations will be provided for consideration by the Council at its November 2007 meeting in San Diego, CA.

Although non-emergency issues not contained in the meeting agenda may come before the GAC for discussion, those issues may not be the subject of formal GAC action during this meeting. GAC action will be restricted to those issues specifically listed in this notice and any issues arising after publication of this notice that require emergency action under Section 305 ) of the Magnuson-Stevens Fishery Conservation and Management Act, provided the public has been notified of the GAC's intent to take final action to address the emergency.

Special Accommodations

This meeting is physically accessible to people with disabilities. Requests for sign language interpretation or other auxiliary aids should be directed to Ms. Carolyn Porter at (503) 820-2280 at least 5 days prior to the meeting date.

Dated: August 17, 2007.
Tracey L. Thompson,
Acting Director, Office of Sustainable Fisheries, National Marine Fisheries Service.

[FR Doc. E7-16617 Filed 8-22-07; 8:45 am]

BILLING CODE 3510-22-S